DEPARTMENT OF HEALTH AND HUMAN SERVICES

Centers for Disease Control and Prevention

[60Day-12-12II]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Ron Otten, at CDC 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Risk Factors for Invasive Methicillin-resistant Staphylococcus aureus (MRSA) among Patients Recently Discharged from Acute Care Hospitals through the Active Bacterial Core Surveillance for Invasive MRSA infections (ABCs MRSA)—NEW—National Center for Emerging and Zoonotic Infectious Diseases (NCEZID), Centers for Disease Control and Prevention (CDC).

Background and Brief Description

Preventing healthcare-associated invasive MRSA infections is one of CDC's priorities. The goal of this project is to assess risk factors for invasive healthcare-associated MRSA infections, which will inform the development of targeted prevention measures. This activity supports the HHS Action Plan for elimination of healthcare-associated infections.

Essential steps in reducing the occurrence of healthcare-associated invasive MRSA infections are to quantify the burden and to identify modifiable risk factors associated with invasive MRSA disease. CDC's current ABCs MRSA surveillance has been essential to quantify the burden of invasive MRSA in the United States. Through this surveillance, CDC was able to estimate that 94,360 invasive MRSA infections associated with 18,650 deaths occurred in the United States in 2005. The majority of these invasive infections (58%) had onset in the community or within three days of hospital admission and occurred among individuals with recent healthcare exposures (healthcare-associated community-onset [HACO]). More recent data from the CDC's ABCs MRSA system have shown that two-thirds of invasive HACO MRSA infections occur among persons who are discharged from an acute care hospital in the prior three months. Risk factors for invasive MRSA infections post-discharge have not been well evaluated, and effective prevention measures in this population remain uncertain.

For this project, an estimated total of 450 patients (150 patients with HACO MRSA infection post-acute care discharge and 300 patients without HACO MRSA infection) will be contacted for the MRSA interview annually. This estimate is based on the numbers of MRSA cases reported by the ABCs MRSA sites annually (http://www.cdc.gov/abcs/reports-findings/survreports/mrsa08.html) who are 18 years of age or older, had onset of the MRSA infection in the community or within three days of hospital admission, and history of hospitalization in the prior three months. ABCs MRSA surveillance case report forms will be used to identify HACO MRSA cases to be contacted for a telephone interview. For each HACO MRSA case identified; two patients without HACO MRSA infection (control-patients) matched on age with MRSA case will be contacted for a health interview. All 450 patients (both cases and controls) will be screened for eligibility and those considered to be eligible will complete the telephone interview. We anticipate that 350 of the 450 patients screened will complete the telephone interview across all six participating ABCs MRSA sites per year. We anticipate the screening questions to take about 5 minutes and the telephone interview 20 minutes per respondent.

There are no costs to respondents. The total response burden for the study is estimated as follows:

Type of respondents | Form name | Number of respondents | Number of responses per respondent | Average burden per response (in hours) | Total burden (in hours)
Hospital Patients | Screening Form | 450 | 1 | 5/60 | 38
| Telephone interview | 350 | 1 | 20/60 | 117
Total |  |  |  |  | 155

Dated: April 17, 2012.
Ron A. Otten,
Director, Office of Scientific Integrity, Office of the Associate Director for Science (OADS), Office of the Director, Centers for Disease Control and Prevention.

[FR Doc. 2012-9720 Filed 4-20-12; 8:45 am]

BILLING CODE 4163-18-P